SMALL BUSINESS ADMINISTRATION

[Disaster Declaration #4261 and #14262]

Tennessee Disaster Number TN-00087

AGENCY: U.S. Small Business Administration.

ACTION: Amendment 1.

SUMMARY: This is an amendment of the Presidential declaration of a major disaster for Public Assistance Only for the State of Tennessee (FEMA-4211-DR), dated 04/02/2015.

Incident: Severe Winter Storm and Flooding.

Incident Period: 02/15/2015 through 02/22/2015.

Effective Date: 04/17/2015.

Physical Loan Application Deadline Date: 06/01/2015.

Economic Injury (EIDL) Loan Application Deadline Date: 01/04/2016.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for Private Non-Profit organizations in the State of TENNESSEE, dated 04/02/2015, is hereby amended to include the following areas as adversely affected by the disaster.

Primary Counties: Hardin.

All other information in the original declaration remains unchanged.

(Catalog of Federal Domestic Assistance Numbers 59002 and 59008)

Joseph P. Loddo,
Acting Associate Administrator for Disaster Assistance.

[FR Doc. 2015-09814 Filed 4-27-15; 8:45 am]

BILLING CODE 8025-01-P